NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 70 FR 54584, and two comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Comment: On September 15, 2005, we published in the Federal Register (70 FR 54584) a 60-day notice of our intent to request renewal of this information collection authority from OMB. In that notice, we solicited public comments for 60 days ending November 14, 2005. Two comments were received from the same person in response to the public notice (the second in response to NSF's reply). The comments came from B. Sachau of Florham Park, NJ, via e-mail on September 20, 2005 and October 12, 2005. Ms. Sachau objected to the information collection but had no specific suggestions for altering the data collection plans other than suggesting that teachers could pay for their own courses.

Response: We responded to Ms. Sachau on October 12, 2005 describing the program and noting that these experiences are valuable for teachers because they take back to their classrooms knowledge they gained and experiences they as a result of exposure to the research component of technology commercialization. On October 12, 2005 we received a follow-up reply from Ms. Sachau restating that she dislikes the program. NSF believes that because the comment does not pertain to the collection of information on the required forms for which NSF is seeking OMB approval, NSF is preceding with the clearance request.

Title: Evaluation of the Research Experiences for Teachers (RET) Program.

OMB Control Number: 3145-0198.

Abstract: The Directorate for Engineering (ENG) initiated the Research Experiences for Teachers (RET) Supplements activity in FY 2001 to be add-ons to active awards funded by ENG programs. The intent was to build on the popular NSF-wide Research Experiences for Undergraduates (REU) Supplements activity by providing opportunities for K-12 teachers to conduct hands-on experiences in the laboratories/facilities of ENG-funded researchers. The assumption was that, like undergraduates, the teachers could benefit from involvement in research and direct exposure to the scientific method, and they could transfer what they learned into classroom activities. Typically the supplements supported one or two teachers. Beginning in FY 2002, ENG has also funded RET Site awards, which are similar to REU Sites in that NSF awards fund groups of teachers to work with faculty members at the same institution and to engage in group activities related to the research. In 2003, community college faculty became eligible as participants in RET awards. By design, all RET awards are made to the university in whose research the teachers participate.

The initial study of the program just concluded focused on participants in ENG-funded RET Supplement and Site awards in 2001 through 2003. That study resulted in modifications to the RET program announcement for the FY 2006 competition. The proposed follow-up study will be very similar to the initial study and focus on teachers who participated in RET during 2004 and 2005. The follow-on study will examine how RET experience have affected participating teachers' subsequent teaching techniques, attitudes about teaching, and professional development activities. Outcomes and impacts beyond the teachers' own classrooms, such as knowledge transfer activities, formal partnerships formed between the RET Principal Investigators (PIs)—the awardees—and the teachers' school system/district will also be examined. The first survey found that follow-up interaction between PIs and teachers were strongly related to reported positive effects. Accordingly, the follow-up study will explore this aspect of the experience in somewhat greater detail than was done in the first survey. The survey data collection will be done on the World Wide Web as before.

Estimate of Burden: Public reporting burden for this collection of information is estimated to average 15-30 minutes per response.

Respondents: Individuals.

Estimated Number of Responses per Form: 456.

Estimated Total Annual Burden on Respondents: 206 hours (456 respondents at 15-30 minutes per response).

Frequency of Response: One time.

Dated: December 2, 2005.
Suzanne H. Plimpton,
Reports Clearance Officer, National Science Foundation.

[FR Doc. 05-23708 Filed 12-6-05; 8:45 am]

BILLING CODE 7555-01-M